DEPARTMENT OF AGRICULTURE

Animal and Plant Health Inspection Service

9 CFR Part 77

[Docket No. 02-112-2]

Tuberculosis in Cattle and Bison; State and Zone Designations

AGENCY: Animal and Plant Health Inspection Service, USDA.

ACTION: Proposed rule; reopening of comment period.

SUMMARY: We are reopening the comment period for a proposed rule that would amend the bovine tuberculosis regulations regarding State and zone classifications by establishing two separate zones with different risk classifications in the State of Michigan and would raise the designation of one of those zones from modified accredited to modified accredited advanced. This action will allow interested persons additional time to prepare and submit comments.

DATES: We will consider all comments that we receive on or before July 25, 2003.

ADDRESSES: You may submit comments by postal mail/commercial delivery or by e-mail. If you use postal mail/commercial delivery, please send four copies of your comment (an original and three copies) to: Docket No. 02-112-1, Regulatory Analysis and Development, PPD, APHIS, Station 3C71, 4700 River Road Unit 118, Riverdale, MD 20737-1238. Please state that your comment refers to Docket No. 02-112-1. If you use e-mail, address your comment to regulations@aphis.usda.gov. Your comment must be contained in the body of your message; do not send attached files. Please include your name and address in your message and “Docket No. 02-112-1” on the subject line.

You may read any comments that we receive on Docket No. 02-112-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Terry Beals, Senior Staff Veterinarian, Eradication and Surveillance Team, National Center for Animal Health Programs, VS, APHIS, 4700 River Road Unit 43, Riverdale, MD 20737-1231; (301) 734-5467.

SUPPLEMENTARY INFORMATION:

Background

On April 7, 2003, we published in the Federal Register (68 FR 16733-16735, Docket No. 02-112-1) a proposal to amend the bovine tuberculosis regulations regarding State and zone classifications by splitting the State of Michigan into two zones and raising the classification of one of those zones from modified accredited to modified accredited advanced.

Comments on the proposed rule were required to be received on or before June 6, 2003. We are reopening the comment period on Docket No. 02-112-1 for an additional 30 days. This action will allow interested persons additional time to prepare and submit comments. We will also consider all comments received between June 7, 2003 (the day after the close of the original comment period) and the date of this notice.

Authority: 7 U.S.C. 8301-8317; 7 CFR 2.22, 2.80, and 371.4.

Done in Washington, DC, this 19th day of June, 2003.
Bobby R. Acord,
Administrator, Animal and Plant Health Inspection Service.

[FR Doc. 03-16038 Filed 6-24-03; 8:45 am]

BILLING CODE 3410-34-P